DEPARTMENT OF THE INTERIOR

Fish and Wildlife Service

Preparation of an Environmental Impact Statement for Issuance of an Incidental Take Permit Associated With a Habitat Conservation Plan for Pacific Gas & Electric Company's Operation and Maintenance Activities in the San Joaquin Valley, California

AGENCY: Fish and Wildlife Service, Interior.

ACTION: Notice of intent.

SUMMARY: Pursuant to the National Environmental Policy Act (NEPA), the Fish and Wildlife Service (we, the Service) advises the public that we intend to gather information necessary to prepare, in coordination with the California Department of Fish and Game (DFG), and Pacific Gas & Electric Company (PG&E), a joint Environmental Impact Statement/Environmental Impact Report (EIS/EIR) on the PG&E San Joaquin Valley Operation and Maintenance Habitat Conservation Plan (Plan). The Plan is being prepared under section 10(a)(1)(B) of the Federal Endangered Species Act of 1973, as amended, (Act). PG&E intends to request a permit for 31 species federally listed as threatened or endangered and 36 unlisted species that may become listed during the term of the permit. The permit is needed to authorize take of listed species that could occur as a result of implementation activities covered under the Plan.

The Service provides this notice to: (1) Describe the proposed action and possible alternatives; (2) advise other Federal and State agencies, affected Tribes, and the public of our intent to prepare an EIS/EIR; (3) announce the initiation of a public scoping period; and (4) obtain suggestions and information on the scope of issues and alternatives to be included in the EIS/EIR.

DATES: Public meetings will be held on: Tuesday, April 6, 2004, from 4 PM to 7 PM, and on Wednesday, April 7, 2004, from 4 PM to 7 PM. Written comments should be received on or before April 26, 2004.

ADDRESSES: The public meeting on Tuesday, April 6, 2004 will be held at Siefert Community Center, Room 2, 128 West Benjamin Holt drive, Stockton, CA, (209) 937-7350, and the public meeting on Wednesday, April 7, 2004 will be held at Mosqueda Community Center, Room 6, 4670 East Butler Avenue, Fresno, CA (559) 621-6600. Information, written comments, or questions related to the preparation of the EIS/EIR and NEPA process should be submitted to Lori Rinek, Chief, Conservation Planning and Recovery Division, U.S. Fish and Wildlife Service, Sacramento Fish and Wildlife Office, 2800 Cottage Way, W-2605, Sacramento, California 95825; FAX (916) 414-6713.

FOR FURTHER INFORMATION CONTACT: Craig Aubrey, Fish and Wildlife Biologist, or Lori Rinek, Chief, Conservation Planning and Recovery Division at the Sacramento Fish and Wildlife Office at (916) 414-6600.

SUPPLEMENTARY INFORMATION:

Reasonable Accommodation

Persons needing reasonable accommodations in order to attend and participate in the public meeting should contact Lori Rinek at (916) 414-6600 as soon as possible. In order to allow sufficient time to process requests, please call no later than one week before the public meeting. Information regarding this proposed action is available in alternative formats upon request.

Background

Section 9 of the Act and Federal regulations prohibit the “take” of a fish and wildlife species listed as endangered or threatened. Under the Act, the following activities are defined as take: harass, harm, pursue, hunt, shoot, wound, kill, trap, capture or collect listed animal species, or attempt to engage in such conduct (16 U.S.C. 1538). However, under section 10(a) of the Act, we may issue permits to authorize “incidental take” of listed species. “Incidental take” is defined by the Act as take that is incidental to, and not the purpose of, carrying out an otherwise lawful activity. Regulations governing permits for threatened species and endangered species, respectively, are at 50 CFR 17.32 and 50 CFR 17.22.

Take of listed plant species is not prohibited under the Act and cannot be authorized under a section 10 permit. We propose to include plant species on the permit in recognition of the conservation benefits provided for them under the Plan. These species would also receive no surprises assurances under the Service's “No Surprises” regulation (63 FR 8859).

Currently, PG&E intends to request a permit for 67 species (covered species) under the Plan: 31 listed and 36 unlisted species. These include the federally listed endangered vernal pool fairy shrimp (Branchinecta lynchi), vernal pool tadpole shrimp (Lepidurus packardi), blunt-nosed leopard lizard (Gambelia sila), Tipton kangaroo rat (Dipodomys nitratoides nitratoides), giant kangaroo rat (Dipodomys ingens), Buena Vista Lake shrew (Sorex ornatus relictus), riparian woodrat (Neotoma fuscipes riparia), riparian brush rabbit (Sylvilagus bachmani riparius), San Joaquin kit fox (Vulpes macrotis mutica), large-flowered fiddleneck (Amsinckia grandiflora), California jewelflower (Caulanthus californicus), palmate-bracted bird's beak (Cordylanthus palmatus), Kern mallow (Eremalche kernensis), San Joaquin woolly-threads (Monolopia congdonii), Bakersfield cactus (Opuntia basilaris var. treleasei), hairy orcutt grass (Orcuttia pilosa), Hartweg's golden sunburst (Pseudobahia bahiifolia), Greene's tuctoria (Tuctoria greenei), Keck's checkermallow (Sidalcea keckii), and the threatened valley elderberry longhorn beetle (Desmocerus californicus dimorphus), California red-legged frog (Rana aurora draytonii), giant garter snake (Thamnophis gigas), bald eagle (Haliaeetus leucocephalus), mariposa pussypaws (Calyptridium pulchellum), succulent owl's clover (Castilleja campestris ssp. succulenta), Hoover's spurge (Chamaesyce hooveri), Hoover's erastrium (Erastrium hooverii), Springville clarkia (Clarkia springvillensis), Colusa grass (Neostapfia colusana), San Joaquin Valley orcutt grass (Orcuttia inaequalis), San Joaquin adobe sunburst (Pseudobahia peirsonii), and their habitats.

The 36 unlisted species proposed to be covered under the Plan include: midvalley fairy shrimp (Branchinecta mesovallensis), California tiger salamander (Ambystoma californiense), limestone salamander (Hydromantes brunus), California black rail (Lateralis jamaicensis coturniculus), Swainson's hawk (Buteo swainsoni), white-tailed kite (Elanus caerules), golden eagle (Aquila chrysaetos), greater sandhill crane (Grus canadensis tabida), western burrowing owl (Athene cunicularia hypugaea), bank swallow (Riparia riparia), tricolored blackbird (Agelaius tricolor), San Joaquin antelope squirrel (Ammospermophilus nelsoni), lesser saltscale (Atriplex minuscula), Bakersfield smallscale (Atriplex tularensis), big tarplant (Blepharizonia plumosa spp. plumosa), tree-anemone (Carpenteria californica), slough thistle (Cirsium crassicaule), Mariposa clarkia (Clarkia biloba ssp. australis), Merced clarkia (Clarkia lingulata), Vasek's clarkia (Clarkia tembloriensis ssp. calientensis), hispid bird's-beak (Cordylanthus mollis ssp. Hispidus), Congdon's woolly sunflower (Eriophyllum congdonii), delta button-celery (Eryngium racemosum), striped adobe-lily (= Greenhorn) (Fritillaria striata), Bogg's Lake hedge-hyssop (Gratiola heterosepala), pale-yellow layia (Layia heterotricha), Comanche layia (Layia leucopappa), legenere (Legenere limosa), Congdon's lewisia (Lewisia congdonii), Mason's lilaeopsis (Lilaeopsis masonii), Mariposa lupine (Lupinus citrinus var. deflexus), showy madia (Madia radiata), Hall's bush mallow (Malacothamnus hallii), pincushion navarretia (Navarretia myersii spp. myersii), oil neststraw (Stylocline citroleum), and Jared's pepper grass (Lepidium jaredii ssp. jaredii). Species may be added or deleted during the course of Plan development based on further analysis, new information, agency consultation, and public comment.

The Plan area includes the network of PG&E facilities within approximately 12,094,000 acres of the San Joaquin Valley. The Plan area comprises portions of nine counties: San Joaquin, Stanislaus, Merced, Fresno, Kings, Kern, Mariposa, Madera, and Tulare. The boundaries of the Plan area are generally defined by the north and eastern boundaries of San Joaquin and Stanislaus County lines, until reaching Mariposa County where it follows the 3,000-foot elevation contour or Federal lands, whichever is lower, south along the western Sierra Nevada foothills. On the west side of the San Joaquin Valley, the plan boundary follows the western boundary of San Joaquin, Stanislaus, Merced, Fresno, Kings, and Kern Counties. The southern limit of the plan area boundary is the 3,000-foot elevation contour near the Kern County line.

Implementation activities that may be covered under the Plan include activities associated with the operation, maintenance, and minor construction of PG&E's gas and electric transmission and distribution system as mandated for public safety by the California Public Utilities Commission, the California Energy Commission, and the Department of Transportation. More specifically, these activities may include: gas pipeline protection, recoating, repair and replacement; electric line protection, repair, reconductering, and replacement; electric pole repair/replacement; vegetation management to maintain clearances around facilities; and minor new gas and electric extensions. Under the Plan, the effects on covered species of the covered activities are expected to be minimized and mitigated through participation in a conservation program, which will be fully described in the Plan. This conservation program would focus on providing long-term protection of covered species by protecting biological communities in the Plan area.

Components of this conservation program are now under consideration by the Service and PG&E. These components will likely include: avoidance and minimization measures, monitoring, adaptive management, and mitigation measures consisting of preservation, restoration and enhancement of habitat.

Environmental Impact Statement/Environmental Impact Report

PG&E and the Service have selected Jones & Stokes to prepare the Draft EIS/EIR. The joint document will be prepared in compliance with NEPA and the California Environmental Quality Act (CEQA). Although Jones & Stokes will prepare the EIS/EIR, the Service will be responsible for the scope and content of the document for NEPA purposes, and DFG will be responsible for the scope and content of the CEQA document, as the state lead agency pursuant to CEQA and the permitting entity pursuant to the California Endangered Species Act and Fish and Game Code 2081.

The EIS/EIR will consider the proposed action (i.e., the issuance of a Section 10(a)(1)(B) permit under the Act), and a reasonable range of alternatives. A detailed description of the proposed action and alternatives will be included in the EIS/EIR. It is anticipated that several alternatives will be developed, which may vary by the level of conservation, impacts caused by the proposed activities, permit area, covered species, or a combination of these factors. Additionally, a No Action alternative will be considered. Under the No Action alternative, the Service would not issue a section 10(a)(1)(B) permit.

The EIS/EIR will also identify potentially significant impacts on biological resources, land use, air quality, water quality, mineral resources, water resources, economics, and other environmental issues that could occur directly or indirectly with implementation of the proposed action and alternatives. For all potentially significant impacts, the EIS/EIR will identify mitigation measures where feasible to reduce these impacts to a level below significance.

Environmental review of the EIS/EIR will be conducted in accordance with the requirements of NEPA (42 U.S.C. 4321 et seq.), its implementing regulations (40 CFR 1500-1508), other applicable regulations, and Service procedures for compliance with those regulations. This notice is being furnished in accordance with 40 CFR 1501.7 of NEPA to obtain suggestions and information from other agencies and the public on the scope of issues and alternatives to be addressed in the EIS/EIR. The primary purpose of the scoping process is to identify important issues raised by the public, related to the proposed action. Written comments from interested parties are invited to ensure that the full range of issues related to the permit request are identified. While written comments are encouraged, we will accept both written and oral comments at the public meeting. In addition, you may submit written comments by mail or facsimile transmission (see ADDRESSES). All comments received, including names and addresses, will become part of the official administrative record and may be made available to the public.

Dated: March 17, 2004.
Ken McDermond,
Deputy Manager, Region 1, California/Nevada Operations Office, Sacramento, California.

[FR Doc. 04-6664 Filed 3-24-04; 8:45 am]

BILLING CODE 4310-55-P